DEPARTMENT OF EDUCATION

[CFDA No.: 84.264B]

Rehabilitation Continuing Education Programs (RCEP): Notice Inviting Applications for New Awards for Fiscal Year (FY) 2001

Purpose of Program: To support training centers that serve either a Federal region or another geographical area and provide for a broad, integrated sequence of training activities that focus on meeting recurrent and common training needs of employed rehabilitation personnel throughout a multi-State geographical area.

Eligible Applicants: State and public or nonprofit agencies and organizations, including Indian tribes and institutions of higher education.

Deadline for Transmittal of Applications: October 16, 2000.

Deadline for Intergovernmental Review: December 18, 2000.

Applications Available: September 1, 2000.

Estimated Available Funds: The Administration has requested $39,629,000 for the Training Program for FY 2001, of which an estimated $1,500,377 would be allocated for this competition. The actual level of funding, if any, depends on final congressional action. However, we are inviting applications to allow enough time to complete the grant process before the end of the fiscal year, if Congress appropriates funds for this program.

Estimated Range of Awards: $475,000—$501,486.

Estimated Average Size of Awards: $499,000.

Maximum Awards By Rehabilitation Services Administration (RSA) Region: Consistent with EDGAR 34 CFR 75.104(b), it is the practice of the Assistant Secretary to reject any application that proposes a project funding level for any year that exceeds the stated maximum award amount for that year.

Maximum Level of Awards By RSA Region
Region V | $501,486
Region VII | 499,916
Region IX | 498,975

Reasonable Accommodation Language: The Assistant Secretary will consider, and may fund, requests for additional funding as an addendum to an application to reflect the costs of reasonable accommodations necessary to allow individuals with disabilities to be employed on the project as personnel on project activities.

Estimated Number of Awards
Region V | 1
Region VII | 1
Region IX | 1

Note: Applications under CFDA No. 84.264B (Community Rehabilitation Program/Rehabilitation Continuing Education Program) are invited for the provision of training for Department of Education Regions V, VII and IX, only. The Department is not bound by any estimates in this notice.

Project Period: Up to 60 months.

Page Limit: Part III of the application, the application narrative, is where you, the applicant, address the selection criteria used by reviewers in evaluating the application. You must limit Part III to the equivalent of no more than 45 pages, using the following standards:

(1) A page is 8.5 inches by 11 inches, on one side only with 1 inch margins at the top, bottom, and both sides.

(2) You must double space (no more than three lines per vertical inch) all text in the application narrative, including titles, headings, footnotes, quotations, references, and captions, as well as all text in charts, tables, figures, and graphs.

If you use a proportional computer font, you may not use a font smaller than a 12-point font or an average character density greater than 18 characters per inch. If you use a nonproportional font or a typewriter, you may not use more than 12 characters per inch.

The page limit does not apply to Part I, the cover sheet; Part II, the budget section, including the narrative budget justification; Part IV, the assurances and certifications; or the one-page abstract, the resumes, the bibliography, or the letters of support. However, you must include all of the application narrative in Part III.

If, in order to meet the page limit, you use print size, spacing, or margins smaller than the standards specified in this notice, we will not consider your application for funding.

Applicable Regulations: (a) The Education Department General Administrative Regulations (EDGAR) in 34 CFR parts 74, 75, 77, 79, 80, 81, 82, 85, and 86; and (b) The regulations for this program in 34 CFR parts 385 and 389.

Selection Criteria: The Assistant Secretary will use the selection criteria in 34 CFR 385.31 and 389.30 to evaluate applications under this program (These selection criteria will appear in the application package). The maximum score for all the criteria is 100 points; however, the Assistant Secretary will also use the following criterion so that up to an additional ten points may be earned by an applicant for a total possible score of 110 points.

Within the Rehabilitation Continuing Education Program, we will give the following competitive preference under 34 CFR 75.105(c)(2)(i) to applications that are otherwise eligible for funding under this competition.

Up to ten (10) points based on the extent to which an application includes effective strategies for employing and advancing in employment qualified individuals with disabilities in projects awarded under this competition. In determining the effectiveness of those strategies, we will consider the applicant's prior success, as described in the application, in employing and advancing in employment qualified individuals with disabilities.

For Applications Contact: Education Publications Center (ED Pubs), P.O. Box 1398, Jessup, MD 20794-1398. Telephone (toll free): 1-877-433-7827. FAX: (301) 470-1244. If you use a telecommunications device for the deaf (TDD), you may call (toll free): 1-877-576-7734. You may also contact ED Pubs via its web site (http://www.ed.gov/pubs/edpubs.html) or its E-mail address (edpubs@inet.ed.gov).

Individuals with disabilities may obtain a copy of the application package in an alternative format by contacting the Grants and Contracts Services Team, U.S. Department of Education, 400 Maryland Avenue, SW., room 3317, Switzer Building, Washington, DC 20202-2550. Telephone: (202) 205-8351. Individuals who use a telecommunications device for the deaf (TDD) may call the Federal Information Relay Service (FIRS) at 1-800-877-8339. However, the Department is not able to reproduce in an alternate format the standard forms included in the application package.

FOR INFORMATION CONTACT: Mary C. Lynch, U.S. Department of Education, 400 Maryland Avenue, SW., room 3322 Switzer Building, Washington, DC 20202-2649. Telephone: (202) 205-8291. Individuals who use a telecommunications device for the deaf (TDD) may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO) toll free, at 1-888-293-6498; or in the Washington, DC area at (202) 512-1530.

Note: The official version of a document is the document published in the Federal Register. Free Internet access to the official edition of the Federal Register, and the Code of Federal Regulations is available on GPO Access at: http://www.access.gpo.gov/nara/index.html

Program Authority: 29 U.S.C. 772.

Dated: August 25, 2000.
Judith E. Heumann,
Assistant Secretary for Special Education and Rehabilitative Services.

[FR Doc. 00-22246 Filed 8-30-00; 8:45 am]

BILLING CODE 4000-01-P